DEPARTMENT OF JUSTICE

Notice of Lodging of Proposed Consent Decree Under the Clean Water Act

On February 9, 2018, the Department of Justice lodged a proposed Consent Decree with the United States District Court for the Western District of Washington in the lawsuit entitled United States of America v. Trident Seafoods Corporation, Civil Action No. 2:18-cv-00210.

The Complaint initiating this matter seeks civil penalties and injunctive relief for alleged violations of the Clean Water Act (“CWA”), 33 U.S.C. Section 1319, against Trident Seafoods Corporation, the owners and/or operators of seafood processing facilities in Sand Point and Wrangell, Alaska.

Under the proposed Consent Decree, Defendant would be enjoined from discharging pollutants except as authorized by the NPDES permits, required to remediate the Sand Point seafood wastepile and to take specified steps to reduce foam discharges to ocean waters, and required to complete an independent evaluation of Trident's internal corporate environmental management system. The proposed Consent Decree also mandates compliance with the CWA and Trident's NPDES permits, and payment to the United States of a civil penalty for past violations.

The publication of this notice opens a period for public comment on the Consent Decree. Comments should be addressed to the Assistant Attorney General, Environment and Natural Resources Division, and should refer to United States of America v. Trident Seafoods Corporation, D.J. Ref. No. 90-5-1-1-11200. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $3.00 (25 cents per page reproduction cost) payable to the United States Treasury.

Susan M. Akers,
Assistant Section Chief, Environmental Enforcement Section, Environment and Natural Resources Division.

[FR Doc. 2018-03664 Filed 2-21-18; 8:45 am]

BILLING CODE 4410-15-P